DEPARTMENT OF HOMELAND SECURITY

Coast Guard

[Docket No. USCG-2019-0138]

Boston Area Maritime Security Advisory Committee; Vacancies, Coast Guard Sector Boston, MA

AGENCY: Coast Guard, Department of Homeland Security.

ACTION: Solicitation for membership.

SUMMARY: This notice requests individuals interested in serving on the Boston Area Maritime Security Committee (AMSC) to submit their applications for membership, to the Captain of the Port (COTP), Boston, MA.

DATES: Requests for membership should reach the U.S. Coast Guard COTP Boston May 15, 2019.

ADDRESSES: Applications for membership should be submitted to the Captain of the Port Boston at the following address: Commander (sx), USCG Sector Boston, 427 Commercial Street, Boston, MA 02109 or by email to Ronald.J.Catudal@uscg.mil.

FOR FURTHER INFORMATION CONTACT: For questions about submitting an application or about the AMSC in general, contact Mr. Ron Catudal at 617-223-5727 or by email to Ronald.J.Catudal@uscg.mil.

SUPPLEMENTARY INFORMATION:

Authority

Section 102 of the Maritime Transportation Security Act (MTSA) of 2002 (Pub. L. 107-295) added section 70112 to Title 46 of the U.S. Code, and authorized the Secretary of the Department in which the Coast Guard is operating to establish Area Maritime Security Advisory Committees for any port area of the United States. Under 46 U.S.C. 70112(b)(7), the Federal Advisory Committee Act (FACA) does not apply to AMSCs.

Boston AMSC Purpose

The AMSCs shall assist the Captain of the Port in the development, review, update, and exercise of the Area Maritime Security Plan for their area of responsibility. Such matters may include, but are not limited to: Identifying critical port infrastructure and operations; Identifying risks (threats, vulnerabilities, and consequences); Determining mitigation strategies and implementation methods; Developing strategies to facilitate the recovery of the MTS after a Transportation Security Incident; Developing and describing the process to continually evaluate overall port security by considering consequences and vulnerabilities, how they may change over time, and what additional mitigation strategies can be applied

AMSC Composition

The composition of an AMSC, to include the Boston AMSC, is prescribed under 33 CFR 103.305. Pursuant to that regulation, members may be selected from the Federal, Territorial, or Tribal government; the State government and political subdivisions of the State; local public safety, crisis management, and emergency response agencies; law enforcement and security organizations; maritime industry, including labor; other port stakeholders having a special competence in maritime security; and port stakeholders affected by security practices and policies. Also, at least 7 of the AMSC members must each have 5 or more years of experience related to maritime or port security operations.

AMSC Membership

The Boston AMSC has 41 members who represent Federal, State, local, and industry stakeholders from Massachusetts. We are seeking to fill sixteen positions with this solicitation for 2019, twelve of which are due to expire in 2019.

Applicants may be required to pass an appropriate security background check prior to appointment to the committee. Members' terms of office will be for 5 years; however, a member is eligible to serve additional terms of office. Members will not receive any salary or other compensation for their service on an AMSC.

Request for Applications

Those seeking membership are not required to submit formal applications to the local Captain of the Port, however, because we do have an obligation to ensure that a specific number of members have the prerequisite maritime security experience, we encourage the submission of resumes highlighting experience in the maritime and security industries.

The Department of Homeland Security does not discriminate in selection of Committee members on the basis of race, color, religion, sex, national origin, political affiliation, sexual orientation, gender identity, marital status, disability and genetic information, age, membership in an employee organization, or other non-merit factor. The Department of Homeland Security strives to achieve a widely diverse candidate pool for all of its recruitment actions.

Dated: April 10, 2019.
Eric J. Doucette,
Captain, U.S. Coast Guard, Captain of the Port Boston, Federal Maritime Security Coordinator Boston.

[FR Doc. 2019-07405 Filed 4-12-19; 8:45 am]

BILLING CODE 4910-15-P